GENERAL SERVICES ADMINISTRATION

41 CFR Parts 300-3, 301-11, 301-50, 301-52, 301-70, 301-71, and 301-73

[FTR Case 2023-03; Docket No. GSA-FTR-2023-0023, Sequence No. 2]

RIN 3090-AK66

Federal Travel Regulation; Updating Glossary of Terms and E-Gov Travel Service Requirements

AGENCY: Office of Government-wide Policy (OGP), General Services Administration (GSA).

ACTION: Final rule.

SUMMARY: GSA is issuing a final rule amending the Federal Travel Regulation (FTR) to remove outdated information on deployment of the original E-Gov Travel Service (ETS) contract as agencies prepare for the next generation of ETS, known as ETSNext, to provide updated policy, and make miscellaneous editorial corrections.

DATES: Effective October 21, 2024.

FOR FURTHER INFORMATION CONTACT: Ms. Cheryl D. McClain-Barnes, Office of Government-wide Policy at 202-208-4334 or email at travelpolicy@gsa.gov for clarification of content. For information pertaining to the status or publication schedules, contact the Regulatory Secretariat Division at 202-501-4755 or GSARegSec@gsa.gov. Please cite FTR case 2023-03.

SUPPLEMENTARY INFORMATION:

I. Background

In November 2003, GSA's Federal Acquisition Service awarded master contracts for the first iteration of ETS, a web-based end-to-end travel management service. GSA published FTR Amendment 2003-07 (68 FR 71026) in December 2003, to amend the FTR on the required use of the new travel service. The original ETS implementation policies included timelines with specific dates for agencies to deploy ETS and migrate to the new platform. This information regarding ETS implementation is no longer needed because all mandatory users have deployed ETS (either initially, or upon expiration of an exception to its use) since it became available to civilian agencies in the first quarter of 2004.

Contracts awarded under ETS2, the second iteration of ETS, are set to expire in June 2027. GSA published a proposed rule (88 FR 89650) on December 28, 2023, seeking to amend the FTR to remove outdated policy and provide updated policy as agencies prepare for the implementation of the next generation of ETS known as “E-Gov Travel Service, Next Generation” or “ETSNext” for short. Accordingly, this rule finalizes the proposed changes to FTR parts 300-3, 301-11, 301-50, 301-52, 301-70, 301-71, and 301-73. GSA is also amending the FTR to make minor editorial changes for clarity.

Specifically, GSA is relocating a definitional term at § 301-50.6, namely “online self-service booking tool,” to part 300-3, “Glossary of Terms,” and updating the definition; renaming the term “Online booking tool (OBT);” and renumbering sections in part 301-50 in logical order. GSA is further updating the “Glossary of Terms” by capitalizing the initialism “ETS” in the body of the definition of “E-Gov Travel Service (ETS)” to be consistent with the definition heading.

GSA is also removing and reserving § 301-73.101 and relocating relevant language from note 1 of the section regarding agency funding responsibility for ETS to a note to § 301-73.2. Further, GSA is revising the note to § 301-73.106 to remove duplicate text regarding travel agent services that align with present requirements for ETS2, but may not align with the terms of successor travel management service contract(s). Finally, GSA is adding a reference to the “extenuating circumstances” exception to the use of ETS and Travel Management Service (TMS) to existing exceptions at §§ 301-50.4 and 301-73.102.

II. Discussion of the Final Rule

A. Summary of Significant Changes

GSA has not made any significant changes to the regulatory language from the proposed to final rule. However, of note, the proposed rule duplicated some technical changes to an FTR final rule that took effect on April 16, 2024 (89 FR 12250); GSA removed these duplicate technical changes from this final rule as they are already in effect under the other rule.

B. Analysis of Public Comments

GSA received one comment to the proposed rule. The commenter wants GSA to retain the original ETS deployment date in the FTR for ease of reference. A major purpose of this amendment is to remove the deployment date for the original ETS contract because it is no longer relevant as all mandatory users have deployed ETS (either initially, or upon expiration of an exception to its use) since it became available to civilian agencies in the first quarter of 2004. GSA also notes that the commenter can access historical versions of the FTR on the web. Accordingly, GSA will not change the final rule based on this comment.

C. Expected Cost Impact to the Public

This rule will not result in an expected cost impact to the public.

III. Executive Orders 12866, 13563, and 14094

Executive Order (E.O.) 12866 (Regulatory Planning and Review) directs agencies to assess all costs and benefits of available regulatory alternatives and, if regulation is necessary, to select regulatory approaches that maximize net benefits (including potential economic, environmental, public health and safety effects, distributive impacts, and equity). E.O. 13563 (Improving Regulation and Regulatory Review) emphasizes the importance of quantifying both costs and benefits, of reducing costs, of harmonizing rules, and of promoting flexibility. E.O. 14094 (Modernizing Regulatory Review) amends section 3(f) of E.O. 12866 and supplements and reaffirms the principles, structures, and definitions governing contemporary regulatory review established in E.O. 12866 and E.O. 13563. The Office of Management and Budget's Office of Information and Regulatory Affairs (OIRA) has determined that this rulemaking is not a significant regulatory action and, therefore, it was not reviewed under section 6(b) of E.O. 12866.

IV. Congressional Review Act

OIRA has determined that this rule is not a “major rule” under 5 U.S.C. 804(2). Title II, Subtitle E of the Small Business Regulatory Enforcement Fairness Act of 1996 (codified at 5 U.S.C. 801-808), also known as the Congressional Review Act or CRA, generally provides that before a rule may take effect, unless excepted, the agency promulgating the rule must submit a rule report, which includes a copy of the rule, to each House of the Congress and to the Comptroller General of the United States. This rule is excepted from CRA reporting requirements prescribed under 5 U.S.C. 801 as it relates to agency management or personnel under 5 U.S.C. 804(3)(B).

V. Regulatory Flexibility Act

This final rule will not have a significant economic impact on a substantial number of small entities within the meaning of the Regulatory Flexibility Act, 5 U.S.C. 601, et seq. This final rule is also exempt from Administrative Procedure Act pursuant to 5 U.S.C. 553(a)(2) because it applies to agency management or personnel. Therefore, an Initial Regulatory Flexibility Analysis was not performed.

VI. Paperwork Reduction Act

The Paperwork Reduction Act does not apply because the changes to the FTR do not impose recordkeeping or information collection requirements, or the collection of information from offerors, contractors, or members of the public that require the approval of the Office of Management and Budget under 44 U.S.C. 3501, et seq.

List of Subjects in 41 CFR Parts 300-3, 301-11, 301-50, 301-52, 301-70, 301-71, and 301-73

Administrative practice and procedure, Government contracts, Government employees, Individuals with disabilities, Travel and transportation expenses.

Robin Carnahan,
Administrator.

Therefore, GSA amends 41 CFR parts 300-3, 301-11, 301-50, 301-52, 301-70, 301-71, and 301-73 as set forth below:

PART 300-3—GLOSSARY OF TERMS

1. The authority citation for part 300-3 continues to read as follows:

Authority: 5 U.S.C. 5707; 40 U.S.C. 121(c); 49 U.S.C. 40118; 5 U.S.C. 5738; 5 U.S.C. 5741-5742; 20 U.S.C. 905(a); 31 U.S.C. 1353; E.O 11609, as amended, 3 CFR, 1971-1975 Comp., p. 586, Office of Management and Budget Circular No. A-126, Revised May 22, 1992.

2. Amend § 300-3.1 by—

a. Revising the definition of “E-Gov Travel Service (ETS)”; and

b. Adding in alphabetical order the definition ”Online booking tool (OBT)”.

The revision and addition read as follows:

§ 300-3.1 What do the following terms mean?

* * * * *

E-Gov Travel Service (ETS)—The Government-contracted, end-to-end travel management service that automates and consolidates the Federal travel process in a self-service environment, covering all aspects of official travel, including travel planning, authorization, reservations, ticketing, expense reimbursement, and travel management reporting. The ETS provides the services of a Federal travel management program as specified in § 301-73.1(a), (b), and (e) of this title.

* * * * *

Online booking tool (OBT)—An internet-based system that permits travelers to make reservations for transportation (e.g., air, rail, and car rental) and lodging. ETS and agency Travel Management Service providers incorporate an OBT.

* * * * *

PART 301-11—PER DIEM EXPENSES

3. The authority citation for part 301-11 continues to read as follows:

Authority: 5 U.S.C. 5707.

4. Amend § 301-11.25 by—

a. Designating the note to § 301-11.25 as note 1 to § 301-11.25; and

b. Revising newly designated note 1 to § 301-11.25.

The revision reads as follows:

§ 301-11.25 Must I provide receipts to substantiate my claimed travel expenses?

* * * * *

Note 1 to § 301-11.25: Hard copy receipts should be electronically scanned and submitted with your electronic travel claim.

PART 301-50—ARRANGING FOR TRAVEL SERVICES

5. The authority citation for part 301-50 continues to read as follows:

Authority: 5 U.S.C. 5707; 40 U.S.C. 121(c).

6. Revise § 301-50.3 to read as follows:

§ 301-50.3 Must I use the ETS or TMS to arrange my travel?

Yes, if you are an employee of an agency as defined in § 301-1.1 of this chapter, you must use the ETS, or your agency's TMS (if an exception to ETS use is granted), to make your travel arrangements. If you are an employee of the Department of Defense, the legislative branch, or the Government of the District of Columbia, you must arrange your travel in accordance with your agency's TMS. Your agency may grant, or be granted, an exception to required use of TMS or ETS under § 301-50.4 or § 301-73.102 or § 301-73.104 of this chapter.

7. Revise § 301-50.4 to read as follows:

§ 301-50.4 May I be granted an exception to the required use of TMS or ETS?

Yes, your agency head or their designee may grant an individual case exception to required use of your agency's TMS or to required use of ETS, but only when your travel meets one of the following conditions:

(a) Such use would result in an unreasonable burden on mission accomplishment (e.g., emergency travel is involved and TMS or ETS is not accessible; you are performing invitational travel; or you have special needs or require disability accommodations under part 301-13 of this chapter).

(b) Such use would compromise a national security interest.

(c) Such use might endanger your life (e.g., you are traveling under the Federal witness protection program, or you are a threatened law enforcement or investigative officer traveling under part 301-31 of this chapter).

(d) Such use is prevented due to extenuating circumstances (see § 301-50.6).

§ 301-50.5 [Amended]

8. Amend § 301-50.5 by—

a. Removing from the section heading the words “the E-Gov Travel Service” and adding in their place “ETS”;

b. Removing the citations “§ 301-50.4 or § 301-73.104” and adding “§ 301-50.4 or § 301-73.102 or § 301-73.104” in their place; and

c. Removing the words “E-Gov Travel Service” and adding in their place “ETS”.

§ 301-50.6 [Removed]

9. Remove § 301-50.6.

§ 301-50.7 [Redesignated as § 301-50.6]

10. Redesignate § 301-50.7 as § 301-50.6.

11. Revise newly redesignated § 301-50.6 to read as follows:

§ 301-50.6 Am I required to use the OBT offered by ETS?

Yes, you are required to use the OBT offered by ETS, or your agency's TMS (if an exception to ETS use is granted), unless extenuating circumstances prevent such use. Some extenuating circumstances for which you may not be able to use an OBT are:

(a) When you are attending a conference where the conference sponsor has negotiated with one or more lodging facilities to set aside a specific number of rooms for conference attendees and to ensure that a set aside room is available to you, you are required to book lodging directly with the lodging facility;

(b) When your travel is to a remote location and it is not possible to book lodging accommodations through the TMS or ETS; or

(c) When such travel arrangements are so complex and circumstances will not allow you to book your travel through an OBT.

PART 301-52—CLAIMING REIMBURSEMENT

12. The authority citation for part 301-52 continues to read as follows:

Authority: 5 U.S.C. 5707; 40 U.S.C. 121(c); Sec. 2., Pub. L. 105-264, 112 Stat. 2350 (5 U.S.C. 5701 note).

13. Revise § 301-52.3 to read as follows:

§ 301-52.3 Am I required to file a travel claim (voucher) in a specific format, and must the claim be signed?

You must use the format prescribed by ETS to file all your travel claims unless your agency has been granted, or has granted you, an exception from required use of the ETS in accordance with § 301-50.4, § 301-73.102, or § 301-73.104 of this chapter. If the prescribed travel claim is hardcopy, the claim must be signed in ink. Any alterations or erasures to your hardcopy travel claim must be initialed. If your agency has electronic document processing, use your electronic signature where required.

PART 301-70—INTERNAL POLICY AND PROCEDURE REQUIREMENTS

14. The authority citation for part 301-70 continues to read as follows:

Authority: 5 U.S.C. 5707; 40 U.S.C. 121(c); Sec. 2, Pub. L. 105-264, 112 Stat. 2350 (5 U.S.C. 5701, note); OMB Circular No. A-126, revised May 22, 1992; OMB Circular A-123, Appendix B, revised August 27, 2019.

15. Amend § 301-70.1 by revising paragraph (d) to read as follows:

§ 301-70.1 How must we administer the authorization and payment of travel expenses?

* * * * *

(d) Must require employees to use the ETS to process travel authorizations and claims for travel expenses, unless an exception has been granted under § 301-50.4, § 301-73.102, or § 301-73.104 of this chapter.

PART 301-71—AGENCY TRAVEL ACCOUNTABILITY REQUIREMENTS

16. The authority citation for part 301-71 continues to read as follows:

Authority: 5 U.S.C. 5707; 40 U.S.C. 121(c); Sec. 2, Pub. L. 105-264, 112 Stat. 2350 (5 U.S.C. 5701 note).

17. Amend § 301-71.201 by revising paragraph (e) to read as follows:

§ 301-71.201 What are the reviewing official's responsibilities?

* * * * *

(e) The required receipts, statements, justifications, etc., are attached to the travel claim and the electronic travel claim includes scanned electronic images of such documents.

PART 301-73—TRAVEL PROGRAMS

18. The authority citation for part 301-73 continues to read as follows:

Authority: 5 U.S.C. 5707; 40 U.S.C. 121(c).

19. Amend § 301-73.1 by revising paragraph (e) to read as follows:

§ 301-73.1 What does the Federal travel management program include?

* * * * *

(e) A Travel Management Reporting System that covers financial and other travel characteristics required by the Agency Payments for Employee Travel, Transportation, and Relocation annual report (see §§ 300-70.1 through 300-70.4 of this title).

* * * * *

20. Revise § 301-73.2 to read as follows:

§ 301-73.2 What are our responsibilities as participants in the Federal travel management program?

As a participant in the Federal travel management program, you must—

(a) Designate an authorized representative to administer the program;

(b) Ensure that you have internal policies and procedures in place to govern use of the program;

(c) Require employees in your agency to use ETS in lieu of TMS (unless an exception has been granted in accordance with § 301-50.4 of this chapter or § 301-73.102 or § 301-73.104); and

(d) Ensure that any agency-contracted TMS complements and supports ETS and data exchange in an efficient and cost effective manner.

Note 1 to § 301-73.2: Your agency is responsible for providing the funds and personnel resources required to support ETS transition and data exchange, and for establishing interfaces between the ETS standard data output and applicable business systems (e.g., financial, human resources, etc.).

21. Revise the heading of subpart B to read as follows:

Subpart B—E-Gov Travel Service and Travel Management Service

22. Revise § 301-73.100 to read as follows:

§ 301-73.100 Are agencies and their employees required to use the ETS?

Yes, unless you have an exception to the use of the ETS (see § 301-50.4 of the chapter and §§ 301-73.102 and 301-73.104), agencies and employees must use the ETS for all temporary duty travel. The Department of Defense, the legislative branch, and the Government of the District of Columbia are not subject to this requirement.

§ 301-73.101 [Removed and Reserved]

23. Remove and reserve § 301-73.101.

24. Revise § 301-73.102 to read as follows:

§ 301-73.102 May we grant a traveler an exception from required use of TMS or ETS?

(a) Yes, your agency head or their designee may grant an individual case by case exception to required use of your agency's TMS or to required use of ETS, but only when travel meets one of the following conditions:

(1) Such use would result in an unreasonable burden on mission accomplishment (e.g., emergency travel is involved and TMS or ETS is not accessible; the traveler is performing invitational travel; or the traveler has special needs or requires disability accommodations in accordance with part 301-13 of this chapter).

(2) Such use would compromise a national security interest.

(3) Such use might endanger the traveler's life (e.g., the individual is traveling under the Federal witness protection program, or is a threatened law enforcement or investigative officer traveling under part 301-31 of this chapter).

(4) Such use is prevented due to extenuating circumstances (see § 301-50.6 of this chapter).

(b) Any exception granted must be consistent with any contractual terms applicable to your TMS or ETS, and must not cause a breach of contract terms.

25. Revise § 301-73.103 to read as follows:

§ 301-73.103 What must we do when we approve an exception to the use of the ETS?

The head of your agency or their designee must approve an exception to the use of the ETS under § 301-50.4 of this chapter or § 301-73.102 in writing or through electronic means.

26. Amend § 301-73.104 by—

a. Removing from the section heading the words “E-Gov Travel Service” and adding in their place “ETS”; and

b. Revising paragraphs (a)(1), (2), and (4), (b), and (c).

The revisions read as follows:

§ 301-73.104 May further exceptions to the required use of the ETS be approved?

(a) * * *

(1) The agency has presented a business case analysis to the General Services Administration that proves that it has an alternative TMS to the ETS that is in the best interest of the Government and the taxpayer (i.e., the agency has evaluated the economic and service values offered by the ETS contractor(s) compared to those offered by the agency's current or proposed TMS and has determined that the agency's current or proposed TMS is a better value);

(2) The agency has security, secrecy, or protection of information issues that cannot be mitigated through security provided by the ETS contractor(s);

* * * * *

(4) The agency has critical and unique technology or business requirements that cannot be accommodated by the ETS contractor(s) at all or at an acceptable and reasonable price (e.g., majority of travel is group-travel).

(b) As a condition of receiving an exception, the agency must agree to conduct annual business case reviews of its TMS and must provide to the ETS Program Management Office (PMO) data elements required by the ETS PMO in a format prescribed by the ETS PMO.

(c) Requests for exceptions should be addressed to the Administrator of General Services and sent to travelpolicy@gsa.gov with full justification and/or analysis addressing paragraphs (a)(1) through (4) of this section.

27. Revise § 301-73.105 to read as follows:

§ 301-73.105 What are the consequences of an employee not using the ETS or TMS?

If an employee does not use the ETS (or your agency's designated TMS where an exception to ETS applies), the employee is responsible for any additional costs (see § 301-50.5 of this chapter) resulting from the failure to use the ETS or your TMS. In addition, you may take appropriate disciplinary actions.

28. Amend § 301-73.106 by—

a. Designating the note to § 301-73.106 as note 1 to § 301-73.106; and

b. Revising newly designated note 1 to § 301-73.106.

The revision reads as follows:

§ 301-73.106 What are the basic services that should be covered by a TMS?

* * * * *

Note 1 to § 301-73.106: The ETS fulfills the basic services of a TMS.

[FR Doc. 2024-21467 Filed 9-19-24; 8:45 am]

BILLING CODE P